DEPARTMENT OF ENERGY

Federal Energy Regulatory Commission

Notice of Effectiveness of Exempt Wholesale Generator Status

| Docket Nos.
Agua Caliente Solar, LLC | EG12-1-000
Windpower Partners 1993, L.P. | EG12-2-000
South Chestnut LLC | EG12-3-000
Sandy Creek Energy Associates, L.P | EG12-4-000
AES New Creek, LLC | EG12-5-000
Coram California Development, L.P | EG12-6-000
Manzana Wind LLC | EG12-7-000
NaturEner Rim Rock Wind Energy, LLC | EG12-8-000

Take notice that during the month of December 2011, the status of the above-captioned entities as Exempt Wholesale Generators became effective by operation of the Commission's regulations. 18 CFR 366.7(a).

Dated: January 19, 2012.
Kimberly D. Bose,
Secretary.

[FR Doc. 2012-1477 Filed 1-24-12; 8:45 am]

BILLING CODE 6717-01-P